OFFICE OF PERSONNEL MANAGEMENT

Notice of Submission for Approval: Information Collection 3206-0150; Fingerprint Chart Standard Form 87, SF 87

AGENCY: U.S. Office of Personnel Management.

ACTION: 60-Day Notice and request for comments.

SUMMARY: Federal Investigative Services (FIS), U.S. Office of Personnel Management (OPM) is notifying the general public and other Federal agencies that OPM is seeking Office of Management and Budget (OMB) approval of a revised information collection control number 3206-0150, Fingerprint Chart Standard Form 87, SF 87. OPM is soliciting comments for this collection as required by the Paperwork Reduction Act of 1995, (Pub. L. 104-13, 44 U.S.C. chapter 35), as amended by the Clinger-Cohen Act (Pub. L. 104-106). The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until March 21, 2016. This process is conducted in accordance with 5 CFR 1320.8(d).

ADDRESSES: Interested persons are invited to submit written comments on the proposed information collection to the Federal Investigative Services, U.S. Office of Personnel Management, 1900 E Street NW., Washington, DC 20415, Attention: Donna McLeod or by electronic mail at FISFormsComments@opm.gov.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: The SF 87 is a fingerprint card, which is utilized to conduct a national criminal history check, which is a component of the background investigation. The SF 87 is completed by individuals who are under consideration for appointment to or retention in a Federal position or performance of work on behalf of the Government. The SF 87 fingerprint chart is used in background investigations to establish that such persons are eligible for logical and physical access to Government facilities and systems; suitable or fit to perform work for, on behalf of, the Federal Government; suitable for employment or retention in a public trust position, suitable for employment or retention in a national security position, and/or eligible for access to classified national security information. The SF 87 form is only utilized when a hardcopy fingerprint chart must be obtained, as opposed to the electronic collection of fingerprints.

Due to the SF 87 form's small size and the fact that it may be maintained in multiple systems of records, it does not list all potentially applicable routine uses under the Privacy Act. Accordingly 5 U.S.C. 552a(e)(3)(C) requires that an agency issuing the SF 87 form must also give the subject a copy of the routine uses for the applicable system of records and FBI's Privacy Act Notice and Privacy Rights. OPM proposes to add clarifying language to the Purpose, Authority, and Privacy Statement to further explain uses of the form.

Analysis

Agency: Federal Investigative Services, U.S. Office of Personnel Management.

Title: Fingerprint Chart Standard Form 87, SF 87.

OMB Number: 3206-0150.

Affected Public: Applicants who are under consideration for Federal or Federal contract employment, or continued such employment, and by persons seeking long-term access to Federal facilities and systems.

Number of Respondents: 52,318.

Estimated Time per Respondent: 5 minutes.

Total Burden Hours: 4,360.

U.S. Office of Personnel Management.
Beth F. Cobert,
Acting Director.

[FR Doc. 2016-00993 Filed 1-15-16; 8:45 am]

BILLING CODE 6325-53-P